INTERNATIONAL TRADE COMMISSION

[Investigation No. 337-TA-1351]

Certain Active Matrix Organic Light-Emitting Diode Display Panels and Modules for Mobile Devices, and Components Thereof; Notice of a Commission Determination Not To Review an Initial Determination Granting Complainant Samsung Display Co., Ltd.'s Motion for Leave To Amend the Complaint and Notice of Investigation

AGENCY: U.S. International Trade Commission.

ACTION: Notice.

SUMMARY: Notice is hereby given that the U.S. International Trade Commission has determined not to review the presiding administrative law judge's (“ALJ”) initial determination (“ID”) (Order No. 8) granting a motion of complainant Samsung Display Co., Ltd. (“Samsung Display”) for leave to amend the complaint and notice of investigation.

FOR FURTHER INFORMATION CONTACT: Paul Lall, Office of the General Counsel, U.S. International Trade Commission, 500 E Street SW, Washington, DC 20436, telephone (202) 205-2043. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On February 3, 2023, the Commission instituted this investigation based on a complaint filed by Samsung Display of the Republic of Korea. 88 FR 7463-64 (Feb. 3, 2023). The complaint alleges violations of section 337 of the Tariff Act of 1930, as amended, 19 U.S.C. 1337 based upon the importation into the United States, the sale for importation, or sale within the United States after importation of certain active matrix organic light-emitting diode display panels and modules for mobile devices, and components thereof by reason of the infringement of certain claims of U.S. Patent Nos. 9,818,803; 10,854,683; 7,414,599; and 9,330,593. Id. The Commission's notice of investigation named the following respondents: Apt-Ability LLC d/b/a MobileSentrix of Chantilly, VA (“Apt-Ability”); Mobile Defenders, LLC of Caledonia, MI (“Mobile Defenders”); DFW Imports LLC d/b/a DFW Cellphone and Parts of Dallas, TX (“DFW Imports”); Electronics Universe, Inc. d/b/a Fixez.com of Las Vegas, NV and Electronics Universe, Inc. d/b/a Repairs Universe, Inc. of Las Vegas, NV (“Electronics Universe”); eTech Parts Plus LLC of Southlake, TX (“eTech Parts Plus”); Gadgetfix Corp. of Irvine, CA (“Gadgetfix”); Injured Gadgets, LLC of Norcross, GA (“Injured Gadgets”); LCTech International Inc. d/b/a SEGMobile.com of City of Industry, CA (“LCTech International”); Parts4Cells Inc. of Houston, TX (“Parts4Cells”); Phone LCD Parts LLC of Wayne, NJ; Parts4LCD of Wayne, NJ; Wholesale Gadget Parts, Inc. of Bixby, OK (“Wholesale Gadget Parts”); Group Vertical, LLC of Grand Rapids, MI; Sourcely Plus, LLC of Tempe, AZ; Captain Mobile Parts, Inc. of Dallas, TX; and Mengtor Inc. of El Monte, CA. Id. The Office of Unfair Import Investigations (“OUII” or “Staff”) was also named as a party in this investigation. Id.

On March 15, 2023, the presiding ALJ granted Mianyang BOE Optoelectronics Technology Co., Ltd.'s (“Mianyang BOE”) unopposed motion to intervene as a respondent in this investigation and accorded Mianyang BOE respondent status. (Order No. 7) (Mar. 15, 2023) unreviewed by, Comm'n Notice (Mar. 22, 2023).

On March 10, 2023, Samsung Display moved for leave to amend the complaint and notice of investigation to add allegations of infringement related to claims 1-6, 10, 12, 17, 19, 21-23, 40-47, and 51-52 of U.S. Patent No. 11,594,578 (“the '578 patent”). ID at 1. In its motion, Samsung argued that the '578 patent recently issued and “is a continuation of two other patents (U.S. Patent Nos. 9,818,803 (`the '803 patent') and 10,854,683 (`the '683 patent')) asserted in this investigation.” Id. at 2. Samsung further claimed that it worked “diligently to prepare the instant motion” and that respondents “will not be prejudiced as the investigation is `in its early stages' and `no new technologies or products will be implicated by addition of the '578 Patent.' ” Id. at 2.

On March 22, 2023, respondents Apt-Ability, Mobile Defenders, DFW Imports, Electronics Universe, eTech Parts Plus, Gadgetfix, Injured Gadgets, LCTech International, Parts4Cells, Phone LCD Parts LLC d/b/a Parts4LCD (together, “Phone LCD Parts”), and Wholesale Gadget Parts (collectively, the “Participating Respondents”) filed a response opposing the motion. Id. at 1. They argued that “the '578 patent was allowed on December 23, 2022, almost three months ago, and before Samsung Display filed its complaint.” Id. at 2. They also claimed that “ `forcing [them] to defend against twenty-five additional claims would be burdensome and prejudicial.' ” Id. at 3 (brackets in ID). They asked that if the motion is granted, the procedural schedule should be extended “to mitigate any prejudice.” Id.

Also on March 22, 2023, Staff filed a response in support of Samsung Display's motion. See id. at 2-3. The Staff argued that adding the '578 patent is in the public interest “ `because doing so would allow for the efficient adjudication of all three patents.' ” However, the Staff requested that “the parties be permitted to submit a joint proposal regarding a revised procedural schedule” to avoid any prejudice to respondents. See id. at 3.

“Respondent [Mianyang BOE] filed a notice of joinder as to the Participating Respondents' opposition on March 23, 2023.” Id. at 1-2.

On March 28, 2023, the ALJ issued the subject ID (Order No. 8), granting Samsung Display's motion. The ID finds that Samsung Display had established good cause for the proposed amendment pursuant to Commission Rule 210.14(b) (19 CFR 210.14(b)). As the ID explains, “[w]hile the '578 patent was allowed in December, it formally issued on February 28, 2023. . . . Samsung Display could therefore not have asserted the '578 patent at the time it filed its complaint or prior to institution of this investigation.” Id. at 4. The ID also states that “the '578 patent is a continuation of the '683 patent, which itself is a continuation of the '803 patent.” Id. The ID notes that all three patents are “ `in the same family, name the same inventor, and share the same written description,' and `[t]he products accused of infringing the '578 Patent are the same as those accused of infringing the '803 and '683 Patents.' ” Id. (brackets in ID). However, the ID determines that “to avoid prejudicing the Participating Respondents (and Staff), an extension of the procedural schedule is warranted.” Id. at 5.

No party filed a petition for review of the subject ID.

The Commission has determined not to review the subject ID. Pursuant to Commission Rule 210.14, the Notice of Investigation is amended to include claims 1-6, 10, 12, 17, 19, 21-23, 40-47, and 51-52 of the '578 patent.

The Commission vote for this determination took place on April 20, 2023.

The authority for the Commission's determination is contained in section 337 of the Tariff Act of 1930, as amended (19 U.S.C. 1337), and in Part 210 of the Commission's Rules of Practice and Procedure (19 CFR part 210).

By order of the Commission.
Issued: April 20, 2023.
Lisa Barton,
Secretary to the Commission.

[FR Doc. 2023-08733 Filed 4-25-23; 8:45 am]

BILLING CODE 7020-02-P